DEPARTMENT OF COMMERCE

International Trade Administration

[A-533-924]

Melamine From India: Final Affirmative Determination of Sales at Less Than Fair Value and Affirmative Determination of Critical Circumstances, In Part

AGENCY: Enforcement and Compliance, International Trade Administration, Department of Commerce.

SUMMARY: The U.S. Department of Commerce (Commerce) determines that melamine from India is being, or is likely to be, sold in the United States at less than fair value (LTFV). The period of investigation (POI) is January 1, 2023, through December 31, 2023.

DATES: Applicable February 12, 2025.

FOR FURTHER INFORMATION CONTACT: Myrna Lobo, AD/CVD Operations, Office VII, Enforcement and Compliance, International Trade Administration, U.S. Department of Commerce, 1401 Constitution Avenue NW, Washington, DC 20230; telephone: (202) 482-2371.

SUPPLEMENTARY INFORMATION:

Background

On September 24, 2024, Commerce published in the Federal Register its preliminary affirmative determination in the LTFV investigation of melamine from India and invited interested parties to comment.¹

¹ See Melamine from India: Preliminary Affirmative Determination of Sales at Less Than Fair Value and Affirmative Determination of Critical Circumstances, in Part, 89 FR 77832 (September 24, 2024) (Preliminary Determination), and accompanying Preliminary Decision Memorandum (PDM).

A summary of the events that occurred since the Preliminary Determination, as well as a full discussion of the issues raised by parties for this final determination, may be found in the Issues and Decision Memorandum.² The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

² See Memorandum, “Issues and Decision Memorandum for the Final Affirmative Determination in the Less-Than-Fair-Value Investigation of Melamine from India,” dated concurrently with, and hereby adopted by, this notice (Issues and Decision Memorandum).

Final Affirmative Determination of Critical Circumstances, in Part

Commerce preliminarily determined, in accordance with section 733(e)(1) of the Tariff Act of 1930, as amended (the Act), and 19 CFR 351.206, that critical circumstances exist with respect to imports of melamine from India produced and exported by Gujarat State Fertilizers and Chemicals Limited (GSFC). For the final determination, pursuant to sections 735(a)(3)(A) and (B) of the Act and 19 CFR 351.206, we continue to find that critical circumstances exist for this company.³ Furthermore, we continue to find that critical circumstances do not exist with respect to imports of melamine produced and exported by all other producers and exporters of melamine from India. For a discussion and analysis of comments regarding Commerce's critical circumstances analysis, see the Preliminary Determination ⁴ and the Issues and Decision Memorandum.

³ See Preliminary Determination, 89 FR at 77832; see also PDM at 12-16.

⁴ Id.

Scope of the Investigation

The product covered by this investigation is melamine from India. For a complete description of the scope of this investigation, see Appendix I to this notice.

Scope Comments

We received no comments from interested parties on the scope of the investigation as it appeared in the Preliminary Determination.⁵ Therefore, we made no changes to the scope of the investigation.

⁵ See Preliminary Determination, 89 FR at 77834.

Verification

As stated in the Preliminary Determination, the sole mandatory respondent, GSFC, failed to cooperate by not acting to the best of its ability to provide requested information.⁶ Accordingly, Commerce based the Preliminary Determination entirely on the application of facts available with adverse inferences (AFA), and did not conduct verification under section 782(i) of the Act.

⁶ Id. at 77832; see also PDM at 4-11.

Analysis of Comments Received

All issues raised in the case and rebuttal briefs submitted by interested parties in this investigation are addressed in the Issues and Decision Memorandum. A list of the issues addressed in the Issues and Decision Memorandum is attached as Appendix II to this notice.

Use of Adverse Facts Available

As discussed in the Preliminary Determination, we assigned GSFC an estimated weighted-average dumping margin based entirely on AFA, pursuant to sections 776(a) and (b) of Act.⁷ For this final determination, we continue to find that the application of AFA, pursuant to sections 776(a) and (b) of the Act, is warranted with respect to GSFC.

⁷ Id.

All-Others Rate

Section 735(c)(5)(A) of the Act provides that the estimated weighted-average dumping margin for all other producers and exporters not individually investigated shall be equal to the weighted average of the estimated weighted-average dumping margins established for exporters and producers individually investigated excluding rates that are zero, de minimis, or determined entirely under section 776 of the Act.

In the Preliminary Determination, we assigned a dumping margin of 513.28 percent as the all-others rate based on a simple average of the calculated rates in the petition, pursuant to section 735(c)(5)(B) of the Act.⁸ We have not made any changes to our Preliminary Determination; thus, we continue to assign a dumping margin of 513.28 percent as the all-others rate for this final determination.

⁸ See Preliminary Determination, 89 FR at 77833.

Final Determination

The final estimated weighted-average dumping margins are as follows:

Exporter/producer | Estimated weighted-average dumping margin (percent) | Adjusted cash deposit rate (percent) ⁹
Gujarat State Fertilizers and Chemicals Limited | * 632.74 | 626.27
All Others | 513.28 | 506.81
* Rate based on facts available with adverse inferences.

Disclosure

⁹ Adjusted for export subsidies of 6.47 percent (comprised of 2.69 percent for the RoDTEP program and 3.78 percent for the DDB program) for GSFC and all others. See unpublished Federal Register notice, “Melamine from India: Final Affirmative Countervailing Duty Determination and Critical Circumstances Determination,” and accompanying Issues and Decision Memorandum, dated February 6, 2025.

Normally, Commerce will disclose to the parties in a proceeding the calculations performed in connection with a final determination within five days of any public announcement or, if there is no public announcement, within five days of the date of publication of the notice of final determination in the Federal Register, in accordance with 19 CFR 351.224(b). However, because Commerce continues to apply AFA to the mandatory respondent in this investigation, consistent with the Preliminary Determination and the rate is based on the Petition, there are no new calculations to disclose.

Suspension of Liquidation

In accordance with section 735(c)(4) of the Act, we will instruct U.S. Customs and Border Protection (CBP) to continue to suspend liquidation of subject merchandise, as described in the Appendix I to this notice, from GSFC that are entered, or withdrawn from warehouse, for consumption, on or after June 26, 2024, which is 90 days prior to the date of publication of the affirmative Preliminary Determination in the Federal Register. In accordance with section 735(c)(1)(B) of the Act, we will instruct CBP to continue to suspend liquidation of all other entries of subject merchandise, entered, or withdrawn from warehouse, for consumption on or after September 24, 2024, which is the date of publication of the Preliminary Determination in the Federal Register.

Pursuant to section 735(c)(1)(B)(ii) of the Act and 19 CFR 351.210(d), where appropriate, Commerce will instruct CBP to require a cash deposit equal to the estimated weighted-average dumping margin or the estimated all-others rate as follows: (1) the cash deposit rate for the respondent listed above will be equal to the company-specific estimated weighted-average dumping margin determined in this final determination; (2) if the exporter is not a respondent identified above, but the producer is, then the cash deposit rate will be equal to the company-specific estimated weighted-average dumping margin established for that producer of the subject merchandise; and (3) the cash deposit rate for all other producers and exporters will be equal to the all-others estimated weighted-average dumping margin. These suspension of liquidation instructions will remain in effect until further notice.

Commerce normally adjusts cash deposits for estimated antidumping duties by the amount of export subsidies in a companion countervailing duty (CVD) proceeding, when CVD provisional measures are in effect. However, provisional measures in the companion CVD proceeding are no longer in effect and suspension of liquidation was discontinued. Therefore, we will instruct CBP to collect cash deposits based upon the estimated weighted-average dumping margin shown in the “Final Determination” section above, unadjusted for CVD export subsidies.¹⁰

¹⁰ See section 703(d) of the Act, which states that the provisional measures may not be in effect for more than four months, which in the companion CVD case is 120 days after the publication of the preliminary determination, or November 19, 2024. See CBP Message 4324409, “Discontinuation of suspension of liquidation in the countervailing duty investigation of melamine from India (C-533-925),” dated November 19, 2024.

U.S. International Trade Commission (ITC) Notification

In accordance with section 735(d) of the Act, we will notify the ITC of the final affirmative determination of sales at LTFV. Because Commerce's final determination is affirmative, in accordance with section 735(b)(2) of the Act, the ITC will make its final determination as to whether the domestic industry in the United States is materially injured, or threatened with material injury, by reason of imports or sales (or the likelihood of sales) for importation of melamine from India no later than 45 days after this final determination. If the ITC determines that such injury does not exist, this proceeding will be terminated, and all cash deposits will be refunded, and suspension of liquidation will be lifted. If the ITC determines that material injury, or the threat of material injury, exists, Commerce will issue an antidumping duty order directing CBP to assess, upon further instruction by Commerce, antidumping duties on all imports of the subject merchandise entered, or withdrawn from warehouse, for consumption on or after the effective date of the suspension of liquidation, as discussed above in the “Suspension of Liquidation” section above.

Administrative Protective Order (APO)

This notice serves as the only reminder to parties subject to an APO of their responsibility concerning the disposition of proprietary information disclosed under APO in accordance with 19 CFR 351.305(a)(3). Timely written notification of the return or destruction of APO materials or conversion to judicial protective order is hereby requested. Failure to comply with the regulations and terms of an APO is a sanctionable violation.

Notification to Interested Parties

This determination and this notice are issued and published pursuant to sections 735(d) and 777(i)(1) of the Act, and 19 CFR 351.210(c).

Dated: February 6, 2025.
Christopher Abbott,
Deputy Assistant Secretary for Policy and Negotiations, performing the non-exclusive functions and duties of the Assistant Secretary for Enforcement and Compliance.

Appendix I

Scope of the Investigation

The merchandise subject to this investigation is melamine (Chemical Abstracts Service (CAS) registry number 108-78-01, molecular formula C3 H6 N6). Melamine is also known as 2,4,6-triamino-striazine; 1,3,5-Triazine-2,4,6-triamine; Cyanurotriamide; Cyanurotriamine; Cyanuramide; and by various brand names. Melamine is a crystalline powder or granule. All melamine is covered by the scope of this investigation irrespective of purity, particle size, or physical form. Melamine that has been blended with other products is included within this scope when such blends include constituent parts that have been intermingled, but that have not been chemically reacted with each other to produce a different product. For such blends, only the melamine component of the mixture is covered by the scope of this investigation. Melamine that is otherwise subject to this investigation is not excluded when commingled with melamine from sources not subject to this investigation. Only the subject component of such commingled products is covered by the scope of this investigation.

The subject merchandise is provided for in subheading 2933.61.0000 of the Harmonized Tariff Schedule of the United States (HTSUS). Although the HTSUS subheading and CAS registry number are provided for convenience and customs purposes, the written description of the scope is dispositive.

Appendix II

List of Topics Discussed in the Issues and Decision Memorandum

I. Summary

II. Background

III. Changes Since the Preliminary Determination

IV. Discussion of the Issues

Comment 1: Commerce Must Use Certain Data Submitted by GSFC

Comment 2: Commerce Should Not Find Critical Circumstances

Comment 3: Commerce Must Calculate Margins of GSFC Considering Export Sales to the United States

Comment 4: The Purportedly Missing Information Is Not Significant

Comment 5: The Proposed AFA Margin Dwarfs Historic Margins in India

Comment 6: Commerce Has Not Explained the Need for the Missing Information

Comment 7: Commerce Ignored Its Statutory Mandate

V. Recommendation

[FR Doc. 2025-02547 Filed 2-11-25; 8:45 am]

BILLING CODE 3510-DS-P